DEPARTMENT OF COMMERCE

National Institute of Standards and Technology

Notice of Government Owned Inventions Available for Licensing

AGENCY: National Institute of Standards and Technology Commerce, Commerce.

ACTION: Notice of government owned inventions available for licensing.

SUMMARY: The inventions listed below are owned in whole or in part by the U.S. Government, as represented by the Department of Commerce. The Department of Commerce's interest in the inventions is available for exclusive or non-exclusive licensing in accordance with 35 U.S.C. 207 and 37 CFR part 404 to achieve expeditious commercialization of results of federally funded research and development.

FOR FURTHER INFORMATION CONTACT: Technical and licensing information on these inventions may be obtained by writing to: Mary Clague, 301-975-4188, National Institute of Standards and Technology, Office of Technology Partnerships, Building 820, Room 213, Gaithersburg, MD 20899; Fax 301-869-2751. Any request for information should include the NIST Docket number and title for the relevant invention as indicated below.

SUPPLEMENTARY INFORMATION: NIST may enter into a Cooperative Research and Development Agreement (“CRADA”) with the licensee to perform further research on the inventions for purposes of commercialization. The inventions available for licensing are:

[Docket No.: 97-017C-CIP]

Title: Domain Engineered Ferroelectric Optical Radiation Detector Having Multiple Domain Regions For Acoustic Dampening.

Abstract: The invention comprises a pyroelectric detector with significantly reduced microphonic noise sensitivity comprising a pyroelectric detector element constructed from a z-cut LiNbO3 electret. Selective domain reversal is accomplished in the electret by applying an electric field. Electrodes are attached to either surface of the electret spanning the domain reversed region and a portion of the original domain region to create areas of equal and opposite sensitivity. The detector is mounted in an electrically grounded container or housing. The detector may also be constructed having multiple detector regions to accommodate resonant frequencies of the electret or to function as a position sensor.

[Docket No.: 00-005US]

Title: Cavity Ringdown Spectroscopy System Using Differential Heterodyne Detection.

Abstract: This invention is jointly owned by the University of Colorado and the Department of Commerce. The Department's interest is available for licensing. An ac technique for cavity ringdown spectroscopy permits 1 × 10⁻¹⁰ absorption sensitivity with microwatt light power. Two cavity modes are provided temporarily out of phase such that when one mode is decaying, the other mode is rising. When one of the modes probes intra-cavity absorption of a sample gas, heterodyne detection between the two modes reveals dynamic time constants associated with the cavity and the cavity plus intra-cavity absorption. The system and method provides a quick comparison between on-resonance and off-resonance modes and enables sensitivities that approach the shot-noise limit.

[Docket No.: 01-001US]

Title: Sensitive and Selective Chemical Sensor with Nanostructured Surfaces.

Abstract: The invention was made jointly by scientists from NIST and Informed Diagnostics, Inc. under the auspices of a Cooperative Research and Development agreement( CRADA). A novel chemical sensor is described that utilizes an optical resonator with nanostructured surfaces to permit highly sensitive and selective chemical detection by absorption spectroscopy, typically in the visible spectral region. The analyte is not required to possess a significant absorption cross section at the probe wavelength. Instead, the absorption of one or more nanoparticles that are bound to the resonator surface is detected. These nanoparticles have an enormous absorption cross section, which is highly sensitive to the dielectric properties of the particle or its environment. The analyte is detected by combining the sensitive optical response of the nanoparticle with selective chemical interactions that modify the dielectric properties of the particle or its environment. These selective interactions can occur by (1) a direct chemical interaction between the nanoparticle and the analyte that alters the nanoparticle optical constants, or (2) employing a coated nanoparticle that selectively binds the analyte to produce an effective coating refractive index change. The nanoparticles can be formed from gold, silver, cadmium sulfide, zinc selenide, or other material and have a spherical, spheroidal, tetrahedral, or other shape. Typically, metal or semiconductor particles are employed which support a surface plasmon polariton resonance (SPPR). The nanoparticles modify one or more surfaces of an optical resonator where a light beam interrogates the absorption change in response to the analyte. In one embodiment, the nanoparticles modify one or more ultra-smooth surfaces of a high-finesse resonator that employs intracavity total internal reflection, allowing evanescent wave cavity ring-down spectroscopy (EW-CRDS) to be employed for probing the absorbance change. Through proper choice of nanoparticle density, size, shape, material, coating, and resonator design, a miniature chemical sensor is achieved, permitting trace detection of a wide range of absorbing or non-absorbing analytes in the gas or liquid phase.

Dated: February 5, 2002.
Karen H. Brown,
Deputy Director.

[FR Doc. 02-3314 Filed 2-11-02; 8:45 am]

BILLING CODE 3510-13-P